DEPARTMENT OF COMMERCE

International Trade Administration

[C-555-004, C-557-831, C-549-852, C-552-842]

Crystalline Silicon Photovoltaic Cells, Whether or Not Assembled Into Modules, From Malaysia and Thailand: Amended Final Countervailing Duty Determinations; Crystalline Silicon Photovoltaic Cells, Whether or Not Assembled Into Modules, From Cambodia, Malaysia, Thailand, and the Socialist Republic of Vietnam: Countervailing Duty Orders

AGENCY: Enforcement and Compliance, International Trade Administration, Department of Commerce.

SUMMARY: Based on affirmative final determinations by the U.S. Department of Commerce (Commerce) and the U.S. International Trade Commission (ITC), Commerce is issuing countervailing duty (CVD) orders on crystalline silicon photovoltaic cells, whether or not assembled into modules (solar cells) from Cambodia, Malaysia, Thailand, and the Socialist Republic of Vietnam (Vietnam). In addition, Commerce is amending its final CVD determinations with respect to solar cells from Malaysia and Thailand to correct ministerial errors.

DATES: Applicable June 24, 2025.

FOR FURTHER INFORMATION CONTACT: Dusten Hom (Cambodia), Office I, at (202) 482-5075; Janae Martin (Malaysia), Office VI, at (202) 482-0238; Shane Subler (Thailand), Office VIII, at (202) 482-6241; and Amber Hodak (Vietnam), Office VI, at (202) 482-8034, AD/CVD Operations, Enforcement and Compliance, International Trade Administration, U.S. Department of Commerce, 1401 Constitution Avenue NW, Washington, DC 20230.

SUPPLEMENTARY INFORMATION:

Background

In accordance with sections 705(d) and 777(i) of the Tariff Act of 1930, as amended (the Act), on April 25, 2025, Commerce published its affirmative final determinations that countervailable subsidies are being provided to producers and exporters of solar cells from Cambodia, Malaysia, Thailand, and Vietnam.¹ Between April 28 and 29, 2025, various interested parties alleged that Commerce made ministerial errors in the Malaysia Final Determination, Thailand Final Determination, and Vietnam Final Determination.² On May 5, 2025, various parties submitted replies to those ministerial error allegations.³

¹ See Crystalline Silicon Photovoltaic Cells, Whether or Not Assembled Into Modules from Cambodia: Final Affirmative Countervailing Duty Determination, 90 FR 17406 (April 25, 2025) (Cambodia Final Determination); Crystalline Silicon Photovoltaic Cells, Whether or Not Assembled Into Modules, from Malaysia: Final Affirmative Countervailing Duty Determination, 90 FR 17384 (April 25, 2025) (Malaysia Final Determination); Crystalline Silicon Photovoltaic Cells, Whether or Not Assembled Into Modules, from Thailand: Final Affirmative Countervailing Duty Determination and Final Affirmative Determination of Critical Circumstances, 90 FR 17380 (April 25, 2025) (Thailand Final Determination); and Crystalline Silicon Photovoltaic Cells, Whether or Not Assembled Into Modules, from the Socialist Republic of Vietnam: Final Affirmative Duty Determination and Final Affirmative Critical Circumstances Determination, in Part, 90 FR 17399 (April 25, 2025) (Vietnam Final Determination).

² See American Alliance for Solar Manufacturing Trade Committee's (Petitioner) Letter, “Ministerial Error Comments Regarding the Preliminary Determination,” dated April 29, 2025 (Petitioner's Malaysia Ministerial Error Allegation); see also TTL's Letter, “TTL's Ministerial Error Allegation,” dated April 28, 2025 (TTL's Thailand Ministerial Error Allegation); Petitioner's Letter, “Petitioner's Ministerial Error Allegation,” dated April 28, 2025.

³ See Petitioner's Letter, “Response to TTL's Ministerial Error Comments,” dated May 5, 2025; see also Canadian Solar's Letter, “Ministerial Error Rebuttal Comments,” dated May 5, 2025; see also JA Solar Vietnam Company Limited's Letter, “Rebuttal Ministerial Error Comments,” dated May 5, 2025.

Section 705(e) of the Act and 19 CFR 351.224(f) define ministerial errors as errors in addition, subtraction, or other arithmetic function, clerical errors resulting from inaccurate copying, duplication, or the like, and any other type of unintentional error which Commerce considers ministerial. We reviewed the allegations and determined that we made ministerial errors in the Malaysia Final Determination and Thailand Final Determination. See “Amendment to the Malaysia Final Determination” and “Amendment to the Thailand Final Determination” sections below for further discussions. We determined no ministerial error was made in the Vietnam Final Determination.⁴

⁴ See Memorandum, “Ministerial Error Allegations in the Final Determination,” dated May 14, 2025.

On June 9, 2025, pursuant to section 705(d) of the Act, the ITC notified Commerce of its final affirmative determinations that an industry in the United States is materially injured by reason of subsidized imports of solar cells from Malaysia and Vietnam within the meaning of section 705(b)(1)(A)(i) of the Act, and is threatened with material injury by reason of subsidized imports of solar cells from Cambodia and Thailand within the meaning of section 705(b)(1)(A)(ii) of the Act.⁵

⁵ See ITC's Letter, “Chair Determinations Letter to {Commerce}—crystalline photovoltaic cells, whether or not assembled into modules,” dated June 9, 2025 (ITC Notification Letter). Having made a determination that an industry in the United States is threatened with material injury by reason of imports of solar cells from Thailand, the ITC did not reach the issue of critical circumstances regarding imports of subject merchandise from Thailand. See Crystalline Silicon Photovoltaic Cells, Whether or Not Assembled Into Modules from Cambodia, Malaysia, Thailand, and Vietnam, Investigation Nos. 701-TA-722-725 and 731-TA-1690-1693 (Final), USITC Pub. 5631 (June 2025) (ITC Final Report), at 1, n. 4.

Scope of the Orders

The merchandise covered by these orders is solar cells from Cambodia, Malaysia, Thailand, and Vietnam. For a complete description of the scope of the orders, see Appendix I and Appendix II to this notice.

Amendment to the Malaysia Final Determination

On April 29, 2025, the petitioner timely alleged that Commerce made a ministerial error in Malaysia Final Determination.⁶ Commerce reviewed the record and, on May 27, 2025, agreed that the petitioner's allegation constituted a ministerial error within the meaning of section 705(e) of the Act and 19 CFR 351.224(f).⁷ Accordingly, Commerce is amending the final determination by correcting the countervailable subsidy rate calculated for Jinko Solar, and making the necessary changes to the countervailable subsidy rates for all other companies not selected for individual examination, and for the non-responsive companies. See Malaysia Ministerial Error Analysis Memorandum for additional details.

⁶ See Petitioner's Malaysia Ministerial Error Allegation.

⁷ See Memorandum, “Ministerial Error Allegations in the Final Determination,” dated May 27, 2025 (Malaysia Ministerial Error Analysis Memorandum).

Amendment to the Thailand Final Determination

On April 28, 2025, Trina Solar Science & Technology (Thailand) Ltd. (TTL) timely alleged that Commerce made ministerial errors in the Thailand Final Determination.⁸ Commerce reviewed the record and, on May 30, 2025, agreed that one of TTL's allegations constituted a ministerial error within the meaning of section 705(e) of the Act and 19 CFR 351.224(f).⁹ Accordingly, Commerce is amending the final determination by correcting the countervailable subsidy rate calculated for TTL. See the Thailand Ministerial Error Analysis Memorandum for additional details.

⁸ See TTL's Thailand Ministerial Error Allegation.

⁹ See Memorandum, “Analysis of Ministerial Error Allegations for the Final Determination,” dated May 30, 2025 (Thailand Ministerial Error Analysis Memorandum).

Countervailing Duty Orders

Based on the final affirmative determinations by the ITC that an industry in the United States is materially injured by reason of subsidized imports of solar cells from Malaysia and Vietnam, and is threatened with material injury by reason of subsidized imports of solar cells from Cambodia and Thailand,¹⁰ in accordance with section 705(c)(2) of the Act, Commerce is issuing these CVD orders. Because the ITC determined that imports of solar cells from Malaysia, and Vietnam are materially injuring a U.S. industry, unliquidated entries of such merchandise entered, or withdrawn from warehouse, for consumption, are subject to the assessment of countervailing duties.

¹⁰ See ITC Notification Letter.

Therefore, in accordance with section 706(a) of the Act, Commerce will direct U.S. Customs Border and Protection (CBP) to assess, upon further instructions by Commerce, countervailing duties on unliquidated entries of solar cells from Malaysia and Vietnam entered, or withdrawn from warehouse for consumption on or after October 4, 2024, the date of publication of the Malaysia Preliminary Determination and Vietnam Preliminary Determination,¹¹ but will not include entries occurring after the expiration of the provisional measures period and before the publication of the ITC's final injury determination under section 705(b) of the Act, as further described below.

¹¹ See Crystalline Silicon Photovoltaic Cells, Whether or Not Assembled into Modules, from Malaysia: Preliminary Affirmative Countervailing Duty Determination and Alignment of Final Determination with Final Antidumping Duty Determination, 89 FR 80861 (October 4, 2024) (Malaysia Preliminary Determination), and accompanying Preliminary Decision Memorandum (PDM); see also Crystalline Silicon Photovoltaic Cells, Whether or Not Assembled into Modules, from the Socialist Republic of Vietnam: Preliminary Affirmative Countervailing Duty Determination, Preliminary Affirmative Critical Circumstances Determination, In Part, and Alignment of Final Determination with Final Antidumping Duty Determination, 89 FR 80866 (October 4, 2024) (Vietnam Preliminary Determination), and accompanying PDM.

Because the ITC determined that imports of solar cells from Cambodia and Thailand are threatening to materially injure a U.S. industry, pursuant to section 706(b)(2) of the Act, countervailing duties shall be assessed on subject merchandise entered, or withdrawn from warehouse, for consumption on or after the date of publication of the ITC's notice of final determination of threat of material injury. Section 706(b)(1) of the Act states, “{i}f the Commission, in its final determination under section 705(b), finds material injury or threat of material injury which, but for the suspension of liquidation under section 703(d)(2), would have led to a finding of material injury, then entries of the merchandise subject to the countervailing duty order, the liquidation of which has been suspended under section 703(d)(2), shall be subject to the imposition of countervailing duties under section 701(a).” In addition, section 706(b)(2) of the Act requires CBP to refund any cash deposits of estimated countervailing duties posted before the date of publication of the ITC's final affirmative determination, if the ITC's final determination is based on threat other than the threat described in section 706(b)(1) of the Act. Because the ITC's final determinations with respect to Cambodia and Thailand are based on the threat of material injury and are not accompanied by a finding that injury would have resulted but for the imposition of suspension of liquidation of entries since publication of the Cambodia Preliminary Determination and Thailand Preliminary Determination, section 706(b)(2) of the Act is applicable.¹² Therefore, Commerce will instruct CBP to assess, upon further instruction by Commerce, countervailing duties on entries of solar cells from Cambodia and Thailand entered, or withdrawn from warehouse, for consumption on or after the date of publication of the ITC's notice of final determinations of threat of material injury in the Federal Register.

¹² See ITC Final Report at 96, n. 473; see also Crystalline Silicon Photovoltaic Cells, Whether or Not Assembled Into Modules from the Kingdom of Cambodia: Preliminary Affirmative Countervailing Duty Determination and Alignment of Final Determination With Final Antidumping Duty Determination, 89 FR 80877 (October 4, 2024) (Cambodia Preliminary Determination), and accompanying PDM; and Crystalline Silicon Photovoltaic Cells, Whether or Not Assembled into Modules, from Thailand: Preliminary Affirmative Countervailing Duty Determination, Preliminary Affirmative Critical Circumstances Determination, in Part, and Alignment of Final Determination with Final Antidumping Duty Determination, 89 FR 80877 (October 4, 2024) (Thailand Preliminary Determination), and accompanying PDM.

Suspension of Liquidation and Cash Deposits

In accordance with section 706 of the Act, Commerce intends to instruct CBP to reinstitute the suspension of liquidation of solar cells from Cambodia, Malaysia, Thailand, and Vietnam, effective on the date of publication of the ITC's final affirmative determinations in the Federal Register, and to assess, upon further instruction by Commerce, pursuant to section 706(a)(1) of the Act, countervailing duties on each entry of subject merchandise in an amount based on the net countervailable subsidy rates for the subject merchandise.¹³ These instructions suspending liquidation will remain in effect until further notice.

¹³ For the Thailand Preliminary Determination, Commerce did not instruct CBP to suspend liquidation of entries of subject merchandise from TTL because TTL's preliminary net countervailable subsidy rate was de minimis. See Thailand Preliminary Determination, 89 FR at 80875. However, Commerce instructed CBP to suspend liquidation of entries of subject merchandise from TTL as a result of the Thailand Final Determination because TTL's final net countervailable subsidy rate was above de minimis. See Thailand Final Determination, 90 FR at 17381. Therefore, the suspension of liquidation with respect to TTL has already been instituted as of the date of this amended final determination and CVD order for Thailand. See the “Termination of Suspension of Liquidation for Thailand” section below for the dates applicable to TTL.

Commerce also intends, pursuant to section 706(a)(1) of the Act, to instruct CBP to require cash deposits equal to the amounts as indicated below. Accordingly, effective on the date of the publication of the ITC's final affirmative injury determination in the Federal Register, CBP will require, at the same time as importers would normally deposit estimated customs duties on the subject merchandise, a cash deposit for each entry of subject merchandise equal to the subsidy rates listed below.¹⁴ The all-others rates apply to all producers or exporters not specifically listed below, as appropriate.

¹⁴ See section 706(a)(3) of the Act.

Estimated Countervailable Subsidy Rates

The estimated countervailable subsidy rates are as follows:

Cambodia
Company | Subsidy rate (percent ad valorem)
Solarspace New Energy (Cambodia) Co., Ltd | 534.67
Jintek Photovoltaic Technology Co., Ltd | * 3,403.96
Hounen Solar Inc Co., Ltd | * 3,403.96
ISC Cambodia | * 3,403.96
Solar Long PV-Tech (Cambodia) Co., Ltd | * 3,403.96
All Others | 534.67
* Rate based on facts available with adverse inferences.

Malaysia
Company | Subsidy rate (percent ad valorem)
Hanwha Q CELLS Malaysia Sdn. Bhd | 14.64
Jinko Solar Technology Sdn. Bhd.; Jinko Solar (Malaysia) Sdn. Bhd.; and Omega Solar Sdn. Bhd | 40.50
Baojia New Energy | * 170.92
Pax Union Resources SDN BHD | * 170.92
SunMax Energy SDN BHD | * 170.92
All Others | 34.09
* Rate based on facts available with adverse inferences.

Thailand
Company | Subsidy rate (percent ad valorem)
Sunshine Electrical Energy | * 774.50
Taihua New Energy (Thailand) Co. Ltd | * 774.50
Trina Solar Science & Technology (Thailand) Ltd | 255.39
All Others | 255.39
* Rate based on facts available with adverse inferences.

Vietnam ¹⁵
Company | Subsidy rate (percent ad valorem)
Boviet Solar Technology Co., Ltd | 230.66
JA Solar Vietnam Company Limited; JA Solar PV Vietnam Company Limited; JA Solar NE Vietnam Company Limited | 68.15
GEP New Energy Viet Nam Company Limited | * 542.64
Vietnam Green Energy Commercial Services Company Ltd | * 542.64
Shengtian New Energy Vina Co., Ltd | * 542.64
HT Solar Vietnam Limited Company | * 542.64
All Others | 124.57
* Rate based on facts available with adverse inferences.

Provisional Measures

¹⁵ As discussed in the Vietnam Preliminary Determination PDM, Commerce has found the following companies to be cross-owned with JA Solar Vietnam Company Limited: JA Solar PV Vietnam Company Limited; JA Solar NE Vietnam Company Limited. See Vietnam Preliminary Determination, 90 FR at 17401.

Section 703(d) of the Act states that the suspension of liquidation pursuant to an affirmative preliminary determination may not remain in effect for more than four months. Commerce published the Preliminary Determinations ¹⁶ on October 4, 2024.¹⁷ As such, the four-month period beginning on the date of the publication of the Preliminary Determinations ended on January 31, 2025. Therefore, entries of solar cells from Cambodia, Malaysia, Thailand and Vietnam made on or after February 1, 2025, and prior to the date of publication of the ITC's final determinations in the Federal Register, are not subject to the assessment of countervailing duties due to Commerce's discontinuation of the suspension of liquidation.¹⁸

¹⁶ See Cambodia Preliminary Determination; Malaysia Preliminary Determination; Thailand Preliminary Determination; Vietnam Preliminary Determination (collectively, Preliminary Determinations).

¹⁷ See Preliminary Determinations.

¹⁸ In the Thailand Preliminary Determination, Commerce did not instruct CBP to suspend liquidation of entries of subject merchandise from TTL because TTL's preliminary net countervailable subsidy rate was de minimis. See Thailand Preliminary Determination, 89 FR at 80875. Therefore, the discontinuation of suspension of liquidation as a result of the expiration of provisional measures, as described in this section, did not apply to TTL. See the “Termination of Suspension of Liquidation for Thailand” section below for the dates applicable to TTL. In addition, in the Vietnam Preliminary Determination, Commerce also did not instruct CBP to suspend liquidation of entries of subject merchandise from Boviet Solar Technology Co., Ltd. (Boviet Solar) because Boviet Solar's net countervailable subsidy rate was de minimis. See Vietnam Preliminary Determination, 89 FR at 80868. Therefore, the discontinuation of suspension of liquidation as a result of the expiration of provisional measures above, did not apply to Boviet Solar. See the “Termination of Suspension of Liquidation for Vietnam” section below for the dates applicable for Boviet Solar.

In accordance with section 703(d) of the Act, Commerce instructed CBP to terminate the suspension of liquidation and to liquidate, without regard to countervailing duties, unliquidated entries of solar cells from Cambodia, Malaysia, Thailand and Vietnam entered, or withdrawn from warehouse, for consumption on or after February 1, 2025, the date on which the provisional measures expired, until and through the day preceding the date of publication of the ITC's final injury determination in the Federal Register. Suspension of liquidation and collection of cash deposits will resume on the date of publication of the ITC's final determinations in the Federal Register.

Termination of Suspension of Liquidation for Thailand

In the Thailand Preliminary Determination, we preliminarily determined that critical circumstances existed with respect to imports of subject merchandise from Sunshine Electrical Energy, Taihua New Energy (Thailand) Co. Ltd., and all other producers and exporters that entered subject merchandise under the all-others subsidy rate.¹⁹ Accordingly, we instructed CBP to suspend liquidation for unliquidated entries of subject merchandise from these producers/exporters that were entered, or withdrawn from warehouse, for consumption on or after July 6, 2024 (i.e., 90 days before publication of the Thailand Preliminary Determination), and to require the posting of a cash deposit for such entries of subject merchandise.²⁰ Further, in the Thailand Final Determination, Commerce determined that critical circumstances existed with respect to imports of subject merchandise from TTL.²¹ Accordingly, we directed CBP to suspend liquidation for all imports of the subject merchandise from TTL entered, or withdrawn from warehouse, for consumption on or after January 25, 2025 (i.e., 90 days prior to the date of publication of the Thailand Final Determination), and to require the posting of a cash deposit for such entries of subject merchandise.²² However, because the ITC's final determination with respect to Thailand is based on the threat of material injury and is not accompanied by a finding that injury would have resulted but for the imposition of suspension of liquidation of entries since publication of the Thailand Preliminary Determination, section 706(b)(2) of the Act is applicable. Additionally, having determined that an industry in the United States is threatened with material injury by reason of imports of solar cells from Thailand, the ITC did not reach the issue of critical circumstances regarding imports of subject merchandise from Thailand. Therefore, Commerce will instruct CBP to terminate the suspension of liquidation of entries of solar cells from Thailand entered, or withdrawn from warehouse, for consumption prior to the publication of the ITC's notice of final determination in the Federal Register. Further, Commerce will also instruct CBP to refund any cash deposits with respect to entries of solar cells from Thailand entered, or withdrawn from warehouse, for consumption before the date of publication of the ITC's final determination in the Federal Register.

¹⁹ See Thailand Preliminary Determination, 89 FR at 80875.

²⁰ Id.

²¹ See Thailand Final Determination, 90 FR at 17381.

²² Id.

Termination of Suspension of Liquidation for Vietnam

As a result of the Vietnam Preliminary Determination, and pursuant to sections 703(d)(1)(B) and (d)(2) of the Act, we instructed CBP to collect cash deposits and suspend liquidation of entries of solar cells from Vietnam that were entered, or withdrawn from warehouse, for consumption on or after October 4, 2024, the date of the publication of the Vietnam Preliminary Determination in the Federal Register, with respect to entries of solar cells from Vietnam produced and/or exported by JA Solar Vietnam Company Limited (JAVN).²³ Because we preliminarily determined that critical circumstances existed with respect to imports of subject merchandise produced and/or exported by: (1) GEP New Energy Viet Nam Company Limited; (2) Vietnam Green Energy Commercial Services Company Ltd.; (3) Shengtian New Energy Vina Co., Ltd.; (4) HT Solar Vietnam Limited Company; and all other producers and exporters whose imports enter under the all-others subsidy rate, we instructed CBP to collect cash deposits and suspend liquidation of entries of solar cells from Vietnam produced and/or exported by these companies that were entered, or withdrawn from warehouse, for consumption on or after July 6, 2024, which is 90 days prior to the publication of the Vietnam Preliminary Determination in the Federal Register. Because the subsidy rate at the Vietnam Preliminary Determination for Boviet Solar was de minimis, Commerce did not direct CBP to suspend liquidation of entries of subject merchandise from this company.²⁴

²³ See Vietnam Preliminary Determination, 89 FR 80868.

²⁴ Id.

Provisional measures were not imposed for Boviet Solar following the Vietnam Preliminary Determination because of Commerce's preliminary negative determination with respect to Boviet Solar. However, Commerce reached a final affirmative countervailing duty determination and a final affirmative critical circumstances determination with respect to Boviet Solar.²⁵ Accordingly, pursuant to section 703(e)(2)(A) of the Act, Commerce instructed CBP to suspend liquidation of entries solar cells from Boviet Solar, which were entered, or withdrawn from warehouse, for consumption on or after 90 days prior to the date of publication of the Vietnam Final Determination in the Federal Register. Because the ITC made a negative critical circumstances determination with regard to imports of solar cells from Vietnam,²⁶ Commerce will instruct CBP to terminate the suspension of liquidation for entries of solar cells from Vietnam entered, or withdrawn from warehouse, for consumption prior to the publication of the ITC's notice of final determination in the Federal Register. Further, Commerce will also instruct CBP to refund any cash deposits with respect to entries of solar cells from Vietnam entered, or withdrawn from warehouse, for consumption before the date of publication of the ITC's final determination in the Federal Register.²⁷

²⁵ See Vietnam Final Determination, 90 FR at 17400.

²⁶ See ITC Notification Letter.

²⁷ Id.

Establishment of Annual Inquiry Service Lists

On September 20, 2021, Commerce published the Final Rule in the Federal Register.²⁸ On September 27, 2021, Commerce also published the Procedural Guidance in the Federal Register.²⁹ The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.

²⁸ See Regulations to Improve Administration and Enforcement of Antidumping and Countervailing Duty Laws, 86 FR 52300 (September 20, 2021) (Final Rule).

²⁹ See Scope Ruling Application; Annual Inquiry Service List; and Informational Sessions, 86 FR 53205 (September 27, 2021) (Procedural Guidance).

In accordance with the Procedural Guidance, for orders published in the Federal Register after November 4, 2021, Commerce will create an annual inquiry service list segment in Commerce's online e-filing and document management system, Antidumping and Countervailing Duty Electronic Service System (ACCESS), available at https://access.trade.gov, within five business days of publication of the notice of the order. Each annual inquiry service list will be saved in ACCESS, under each case number, and under a specific segment type called “AISL-Annual Inquiry Service List.” ³⁰

³⁰ This segment will be combined with the ACCESS Segment Specific Information (SSI) field which will display the month in which the notice of the order or suspended investigation was published in the Federal Register, also known as the anniversary month. For example, for an order under case number A-000-000 that was published in the Federal Register in January, the relevant segment and SSI combination will appear in ACCESS as “AISL-January Anniversary.” Note that there will be only one annual inquiry service list segment per case number, and the anniversary month will be pre-populated in ACCESS.

Interested parties who wish to be added to the annual inquiry service list for an order must submit an entry of appearance to the annual inquiry service list segment for the order in ACCESS within 30 days after the date of publication of the order. For ease of administration, Commerce requests that law firms with more than one attorney representing interested parties in an order designate a lead attorney to be included on the annual inquiry service list. Commerce will finalize the annual inquiry service list within five business days thereafter. As mentioned in the Procedural Guidance,³¹ the new annual inquiry service list will be in place until the following year, when the Opportunity Notice for the anniversary month of the order is published.

³¹ See Procedural Guidance, 86 FR at 53206.

Commerce may update an annual inquiry service list at any time as needed based on interested parties' amendments to their entries of appearance to remove or otherwise modify their list of members and representatives, or to update contact information. Any changes or announcements pertaining to these procedures will be posted to the ACCESS website at https://access.trade.gov.

Special Instructions for the Petitioner and Foreign Governments

In the Final Rule, Commerce stated that, “after an initial request and placement on the annual inquiry service list, both petitioners and foreign governments will automatically be placed on the annual inquiry service list in the years that follow.” ³² Accordingly, as stated above, the petitioner, the Government of Cambodia, the Government of Malaysia, the Government of Vietnam, and the Royal Thai Government (collectively, Governments) should submit their initial entries of appearance after publication of this notice in order to appear in the first annual inquiry service lists for these orders. Pursuant to 19 CFR 351.225(n)(3), the petitioner and the Governments will not need to resubmit their entries of appearance each year to continue to be included on the annual inquiry service list. However, the petitioner and the Governments are responsible for making amendments to their entries of appearance during the annual update to the annual inquiry service list in accordance with the procedures described above.

³² See Final Rule, 86 FR at 52335.

Notification to Interested Parties

This notice constitutes the CVD orders with respect to solar cells from Cambodia, Malaysia, Thailand and Vietnam, pursuant to section 706(a) of the Act. Interested parties can find a list of antidumping and CVD orders currently in effect at https://www.trade.gov/data-visualization/adcvd-orders-and-suspension-agreements.

The amended Malaysia and Thailand final determinations and these CVD orders are issued and published in accordance with sections 705(e) and 706(a) of the Act, and 19 CFR 351.224(e) and 19 CFR 351.211(b).

Dated: June 17, 2025.
Christopher Abbott,
Deputy Assistant Secretary for Policy and Negotiations, performing the non-exclusive functions and duties of the Assistant Secretary for Enforcement and Compliance.

Appendix I

Scope of the Orders (Cambodia, Malaysia, and Thailand)

The merchandise covered by these orders is crystalline silicon photovoltaic cells, and modules, laminates, and panels, consisting of crystalline silicon photovoltaic cells, whether or not partially or fully assembled into other products, including, but not limited to, modules, laminates, panels and building integrated materials.

These orders cover crystalline silicon photovoltaic cells of thickness equal to or greater than 20 micrometers, having a p/n junction formed by any means, whether or not the cell has undergone other processing, including, but not limited to, cleaning, etching, coating, and/or addition of materials (including, but not limited to, metallization and conductor patterns) to collect and forward the electricity that is generated by the cell.

Merchandise under consideration may be described at the time of importation as parts for final finished products that are assembled after importation, including, but not limited to, modules, laminates, panels, building-integrated modules, building-integrated panels, or other finished goods kits. Such parts that otherwise meet the definition of merchandise under consideration are included in the scope of the orders.

Excluded from the scope of the orders are thin film photovoltaic products produced from amorphous silicon (a-Si), cadmium telluride (CdTe), or copper indium gallium selenide (CIGS).

Also excluded from the scope of the orders are crystalline silicon photovoltaic cells, not exceeding 10,000 mm² in surface area, that are permanently integrated into a consumer good whose function is other than power generation and that consumes the electricity generated by the integrated crystalline silicon photovoltaic cell. Where more than one cell is permanently integrated into a consumer good, the surface area for purposes of this exclusion shall be the total combined surface area of all cells that are integrated into the consumer good.

Additionally, excluded from the scope of the orders are panels with surface area from 3,450 mm² to 33,782 mm² with one black wire and one red wire (each of type 22 AWG or 24 AWG not more than 206 mm in length when measured from panel extrusion), and not exceeding 2.9 volts, 1.1 amps, and 3.19 watts. For the purposes of this exclusion, no panel shall contain an internal battery or external computer peripheral ports.

Also excluded from the scope of the orders are:

1. Off grid CSPV panels in rigid form with a glass cover, with the following characteristics: (A) a total power output of 100 watts or less per panel; (B) a maximum surface area of 8,000 cm² per panel; (C) do not include a built-in inverter; (D) must include a permanently connected wire that terminates in either an 8 mm male barrel connector, or a two-port rectangular connector with two pins in square housings of different colors; (E) must include visible parallel grid collector metallic wire lines every 1-4 millimeters across each solar cell; and (F) must be in individual retail packaging (for purposes of this provision, retail packaging typically includes graphics, the product name, its description and/or features, and foam for transport); and

2. Off grid CSPV panels without a glass cover, with the following characteristics: (A) a total power output of 100 watts or less per panel; (B) a maximum surface area of 8,000 cm² per panel; (C) do not include a built-in inverter; (D) must include visible parallel grid collector metallic wire lines every 1-4 millimeters across each solar cell; and (E) each panel is (1) permanently integrated into a consumer good; (2) encased in a laminated material without stitching, or (3) has all of the following characteristics: (i) the panel is encased in sewn fabric with visible stitching, (ii) includes a mesh zippered storage pocket, and (iii) includes a permanently attached wire that terminates in a female USB-A connector.

In addition, the following CSPV panels are excluded from the scope of the orders: off-grid CSPV panels in rigid form with a glass cover, with each of the following physical characteristics, whether or not assembled into a fully completed off-grid hydropanel whose function is conversion of water vapor into liquid water: (A) a total power output of no more than 80 watts per panel; (B) a surface area of less than 5,000 square centimeters (cm²) per panel; (C) do not include a built-in inverter; (D) do not have a frame around the edges of the panel; (E) include a clear glass back panel; and (F) must include a permanently connected wire that terminates in a two-port rectangular connector.

Additionally excluded from the scope of these orders are off-grid small portable crystalline silicon photovoltaic panels, with or without a glass cover, with the following characteristics: (1) a total power output of 200 watts or less per panel; (2) a maximum surface area of 16,000 cm² per panel; (3) no built-in inverter; (4) an integrated handle or a handle attached to the package for ease of carry; (5) one or more integrated kickstands for easy installation or angle adjustment; and (6) a wire of not less than 3 meters either permanently connected or attached to the package that terminates in an 8 mm diameter male barrel connector.

Also excluded from the scope of these orders are off-grid crystalline silicon photovoltaic panels in rigid form with a glass cover, with each of the following physical characteristics, whether or not assembled into a fully completed off-grid hydropanel whose function is conversion of water vapor into liquid water: (A) a total power output of no more than 180 watts per panel at 155 degrees Celsius; (B) a surface area of less than 16,000 square centimeters (cm²) per panel; (C) include a keep-out area of approximately 1,200 cm² around the edges of the panel that does not contain solar cells; (D) do not include a built-in inverter; (E) do not have a frame around the edges of the panel; (F) include a clear glass back panel; (G) must include a permanently connected wire that terminates in a two-port rounded rectangular, sealed connector; (H) include a thermistor installed into the permanently connected wire before the two-port connector; and (I) include exposed positive and negative terminals at opposite ends of the panel, not enclosed in a junction box.

Further excluded from the scope of the orders are:

1. Off grid rigid CSPV panels with a glass cover, with the following characteristics: (A) a total power output of 200 watts or less per panel, (B) a maximum surface area of 10,500 cm² per panel, (C) do not include a built-in inverter, (D) must include a permanently connected wire that terminates in waterproof connector with a cylindrical positive electrode and a rectangular negative electrode with the positive and negative electrodes having an interlocking structure, (E) must include visible parallel grid collector metallic wire lines every 1-4 millimeters across each solar cell, and (F) must be in individual retail packaging (for purposes of this provision, retail packaging typically includes graphics, the product name, its description and/or features); and

2. Off-grid small portable crystalline silicon photovoltaic panels, with or without a glass cover, with the following characteristics: (A) a total power output of 200 watts or less per panel, (B) a maximum surface area of 16,000 cm² per panel, (C) no built-in inverter, (D) an integrated handle or a handle attached to the package for ease of carry, (E) one or more integrated kickstands for easy installation or angle adjustment, and (F) a wire either permanently connected or attached to the package terminates in waterproof connector with a cylindrical positive electrode and a rectangular negative electrode with the positive and negative electrodes having an interlocking structure.

Also excluded from the scope of the orders are:

1. Off grid rigid CSPV panels with a glass cover, with the following characteristics: (A) a total power output of 200 watts or less per panel, (B) a maximum surface area of 10,500 cm² per panel, (C) do not include a built-in inverter, (D) must include a permanently connected wire that terminates in waterproof connector with a cylindrical positive electrode and a rectangular negative electrode with the positive and negative electrodes having an interlocking structure, (E) must include visible parallel grid collector metallic wire lines every 1-4 millimeters across each solar cell, and (F) must be in individual retail packaging (for purposes of this provision, retail packaging typically includes graphics, the product name, its description and/or features); and

2. Small off-grid panels with glass cover, with the following characteristics: (A) surface area from 3,450 mm² to 33,782 mm², (B) with one black wire and one red wire (each of type 22 AWG or 28 AWG not more than 350 mm in length when measured from panel extrusion), (C) not exceeding 10 volts, (D) not exceeding 1.1 amps, (E) not exceeding 6 watts, and (F) for the purposes of this exclusion, no panel shall contain an internal battery or external computer peripheral ports.

Additionally excluded from the scope of the orders are:

1. Off grid rigid CSPV panels with a glass cover, with the following characteristics: (A) a total power output of 175 watts or less per panel, (B) a maximum surface area of 9,000 cm² per panel, (C) do not include a built-in inverter, (D) must include a permanently connected wire that terminates in waterproof connector with a cylindrical positive electrode and a rectangular negative electrode with the positive and negative electrodes having an interlocking structure; (E) must include visible parallel grid collector metallic wire lines every 1-4 millimeters across each solar cell, and (F) must be in individual retail packaging (for purposes of this provision, retail packaging typically includes graphics, the product name, its description and/or features); and

2. Off grid CSPV panels without a glass cover, with the following characteristics, (A) a total power output of 220 watts or less per panel, (B) a maximum surface area of 16,000 cm² per panel, (C) do not include a built-in inverter, (D) must include visible parallel grid collector metallic wire lines every 1-4 millimeters across each solar cell, and (E) each panel is encased in a laminated material without stitching.

Also excluded from the scope of these orders are off-grid CSPV panels in rigid form, with or without a glass cover, permanently attached to an aluminum extrusion that is an integral component of an automation device that controls natural light, whether or not assembled into a fully completed automation device that controls natural light, with the following characteristics:

1. a total power output of 20 watts or less per panel;

2. a maximum surface area of 1,000 cm² per panel;

3. does not include a built-in inverter for powering third party devices

Modules, laminates, and panels produced in a third-country from cells produced in a subject country are covered by the orders; however, modules, laminates, and panels produced in a subject country from cells produced in a third-country are not covered by the orders.

Also excluded from the scope of these orders are all products covered by the scope of the antidumping and countervailing duty orders on Crystalline Silicon Photovoltaic Cells, Whether or Not Assembled into Modules, from the People's Republic of China: Amended Final Determination of Sales at Less Than Fair Value, and Antidumping Duty Order, 77 FR 73018 (December 7, 2012); and Crystalline Silicon Photovoltaic Cells, Whether or Not Assembled into Modules, from the People's Republic of China: Countervailing Duty Order, 77 FR 73017 (December 7, 2012).

Merchandise covered by the orders is currently classified in the Harmonized Tariff System of the United States (HTSUS) under subheadings 8541.42.0010 and 8541.43.0010. Imports of the subject merchandise may enter under HTSUS subheadings 8501.71.0000, 8501.72.1000, 8501.72.2000, 8501.72.3000, 8501.72.9000, 8501.80.1000, 8501.80.2000, 8501.80.3000, 8501.80.9000, 8507.20.8010, 8507.20.8031, 8507.20.8041, 8507.20.8061, and 8507.20.8091. These HTSUS subheadings are provided for convenience and customs purposes; the written description of the scope of the orders is dispositive.

Appendix II

Scope of the Order (Vietnam)

The merchandise covered by this order is crystalline silicon photovoltaic cells, and modules, laminates, and panels, consisting of crystalline silicon photovoltaic cells, whether or not partially or fully assembled into other products, including, but not limited to, modules, laminates, panels and building integrated materials.

This order covers crystalline silicon photovoltaic cells of thickness equal to or greater than 20 micrometers, having a p/n junction formed by any means, whether or not the cell has undergone other processing, including, but not limited to, cleaning, etching, coating, and/or addition of materials (including, but not limited to, metallization and conductor patterns) to collect and forward the electricity that is generated by the cell.

Merchandise under consideration may be described at the time of importation as parts for final finished products that are assembled after importation, including, but not limited to, modules, laminates, panels, building-integrated modules, building-integrated panels, or other finished goods kits. Such parts that otherwise meet the definition of merchandise under consideration are included in the scope of the order.

Excluded from the scope of the order is thin film photovoltaic products produced from amorphous silicon (a-Si), cadmium telluride (CdTe), or copper indium gallium selenide (CIGS).

Also excluded from the scope of the order is crystalline silicon photovoltaic cells, not exceeding 10,000 mm² in surface area, that are permanently integrated into a consumer good whose function is other than power generation and that consumes the electricity generated by the integrated crystalline silicon photovoltaic cell. Where more than one cell is permanently integrated into a consumer good, the surface area for purposes of this exclusion shall be the total combined surface area of all cells that are integrated into the consumer good.

Additionally, excluded from the scope of the order is panels with surface area from 3,450 mm² to 33,782 mm² with one black wire and one red wire (each of type 22 AWG or 24 AWG not more than 206 mm in length when measured from panel extrusion), and not exceeding 2.9 volts, 1.1 amps, and 3.19 watts. For the purposes of this exclusion, no panel shall contain an internal battery or external computer peripheral ports.

Also excluded from the scope of the order is:

(1) Off grid CSPV panels in rigid form with a glass cover, with the following characteristics: (A) a total power output of 100 watts or less per panel; (B) a maximum surface area of 8,000 cm² per panel; (C) do not include a built-in inverter; (D) must include a permanently connected wire that terminates in either an 8 mm male barrel connector, or a two-port rectangular connector with two pins in square housings of different colors; (E) must include visible parallel grid collector metallic wire lines every 1-4 millimeters across each solar cell; and (F) must be in individual retail packaging (for purposes of this provision, retail packaging typically includes graphics, the product name, its description and/or features, and foam for transport); and

(2) Off grid CSPV panels without a glass cover, with the following characteristics: (A) a total power output of 100 watts or less per panel; (B) a maximum surface area of 8,000 cm² per panel; (C) do not include a built-in inverter; (D) must include visible parallel grid collector metallic wire lines every 1-4 millimeters across each solar cell; and (E) each panel is (1) permanently integrated into a consumer good; (2) encased in a laminated material without stitching, or (3) has all of the following characteristics: (i) the panel is encased in sewn fabric with visible stitching, (ii) includes a mesh zippered storage pocket, and (iii) includes a permanently attached wire that terminates in a female USB-A connector.

In addition, the following CSPV panels are excluded from the scope of the order: off-grid CSPV panels in rigid form with a glass cover, with each of the following physical characteristics, whether or not assembled into a fully completed off-grid hydropanel whose function is conversion of water vapor into liquid water: (A) a total power output of no more than 80 watts per panel; (B) a surface area of less than 5,000 square centimeters (cm²) per panel; (C) do not include a built-in inverter; (D) do not have a frame around the edges of the panel; (E) include a clear glass back panel; and (F) must include a permanently connected wire that terminates in a two port rectangular connector.

Additionally excluded from the scope of this order is off-grid small portable crystalline silicon photovoltaic panels, with or without a glass cover, with the following characteristics: (1) a total power output of 200 watts or less per panel; (2) a maximum surface area of 16,000 cm² per panel; (3) no built-in inverter; (4) an integrated handle or a handle attached to the package for ease of carry; (5) one or more integrated kickstands for easy installation or angle adjustment; and (6) a wire of not less than 3 meters either permanently connected or attached to the package that terminates in an 8 mm diameter male barrel connector.

Also excluded from the scope of this order is off-grid crystalline silicon photovoltaic panels in rigid form with a glass cover, with each of the following physical characteristics, whether or not assembled into a fully completed off-grid hydropanel whose function is conversion of water vapor into liquid water: (A) a total power output of no more than 180 watts per panel at 155 degrees Celsius; (B) a surface area of less than 16,000 square centimeters (cm²) per panel; (C) include a keep-out area of approximately 1,200 cm² around the edges of the panel that does not contain solar cells; (D) do not include a built-in inverter; (E) do not have a frame around the edges of the panel; (F) include a clear glass back panel; (G) must include a permanently connected wire that terminates in a two-port rounded rectangular, sealed connector; (H) include a thermistor installed into the permanently connected wire before the twoport connector; and (I) include exposed positive and negative terminals at opposite ends of the panel, not enclosed in a junction box.

Further excluded from the scope of the order is:

(1) Off grid rigid CSPV panels with a glass cover, with the following characteristics: (A) a total power output of 200 watts or less per panel, (B) a maximum surface area of 10,500 cm² per panel, (C) do not include a built-in inverter, (D) must include a permanently connected wire that terminates in waterproof connector with a cylindrical positive electrode and a rectangular negative electrode with the positive and negative electrodes having an interlocking structure, (E) must include visible parallel grid collector metallic wire lines every 1-4 millimeters across each solar cell, and (F) must be in individual retail packaging (for purposes of this provision, retail packaging typically includes graphics, the product name, its description and/or features); and

(2) Off-grid small portable crystalline silicon photovoltaic panels, with or without a glass cover, with the following characteristics: (A) a total power output of 200 watts or less per panel, (B) a maximum surface area of 16,000 cm² per panel, (C) no built-in inverter, (D) an integrated handle or a handle attached to the package for ease of carry, (E) one or more integrated kickstands for easy installation or angle adjustment, and (F) a wire either permanently connected or attached to the package terminates in waterproof connector with a cylindrical positive electrode and a rectangular negative electrode with the positive and negative electrodes having an interlocking structure.

Also excluded from the scope of the order is:

(1) Off grid rigid CSPV panels with a glass cover, with the following characteristics: (A) a total power output of 200 watts or less per panel, (B) a maximum surface area of 10,500 cm² per panel, (C) do not include a built-in inverter, (D) must include a permanently connected wire that terminates in waterproof connector with a cylindrical positive electrode and a rectangular negative electrode with the positive and negative electrodes having an interlocking structure, (E) must include visible parallel grid collector metallic wire lines every 1-4 millimeters across each solar cell, and (F) must be in individual retail packaging (for purposes of this provision, retail packaging typically includes graphics, the product name, its description and/or features); and

(2) Small off-grid panels with glass cover, with the following characteristics: (A) surface area from 3,450 mm² to 33,782 mm², (B) with one black wire and one red wire (each of type 22AWG or 28 AWG not more than 350 mm in length when measured from panel extrusion), (C) not exceeding 10 volts, (D) not exceeding 1.1 amps, (E) not exceeding 6 watts, and (F) for the purposes of this exclusion, no panel shall contain an internal battery or external computer peripheral ports.

Additionally excluded from the scope of the order is:

(1) Off grid rigid CSPV panels with a glass cover, with the following characteristics: (A) a total power output of 175 watts or less per panel, (B) a maximum surface area of 9,000 cm² per panel, (C) do not include a built-in inverter, (D) must include a permanently connected wire that terminates in waterproof connector with a cylindrical positive electrode and a rectangular negative electrode with the positive and negative electrodes having an interlocking structure; (E) must include visible parallel grid collector metallic wire lines every 1-4 millimeters across each solar cell, and (F) must be in individual retail packaging (for purposes of this provision, retail packaging typically includes graphics, the product name, its description and/or features); and

(2) Off grid CSPV panels without a glass cover, with the following characteristics, (A) a total power output of 220 watts or less per panel, (B) a maximum surface area of 16,000 cm² per panel, (C) do not include a built-in inverter, (D) must include visible parallel grid collector metallic wire lines every 1-4 millimeters across each solar cell, and (E) each panel is encased in a laminated material without stitching.

Also excluded from the scope of this order is off-grid CSPV panels in rigid form, with or without a glass cover, permanently attached to an aluminum extrusion that is an integral component of an automation device that controls natural light, whether or not assembled into a fully completed automation device that controls natural light, with the following characteristics: 1. a total power output of 20 watts or less per panel; 2. a maximum surface area of 1,000 cm2 per panel; 3. does not include a built-in inverter for powering third party devices.

Additionally excluded from the scope of the order is off-grid greenhouse shade tracking systems with between 3 and 30 flexible CSPV panels, each permanently affixed to an outer aluminum frame, with (A) no glass cover, (B) no back sheet, (C) no built-in inverter, (D) power output of 220 watts or less per panel, (E) surface area of 10,000 cm squared or less per panel, (F) two clear plastic trusses per panel permanently attached running lengthwise on the same side as the junction boxes, (G) visible parallel grid collector metallic wire lines every 1-4 mm per each cell on same side as junction box, (H) two rectangular plastic junction boxes per panel with at least 16 diodes per panel, and (I) encased in an aluminum frame and laminated without stitching.

Modules, laminates, and panels produced in a third-country from cells produced in a subject country are covered by the order; however, modules, laminates, and panels produced in a subject country from cells produced in a third-country are not covered by the order.

Also excluded from the scope of this order is all products covered by the scope of the antidumping and countervailing duty orders on Crystalline Silicon Photovoltaic Cells, Whether or Not Assembled into Modules, from the People's Republic of China: Amended Final Determination of Sales at Less Than Fair Value, and Antidumping Duty Order, 77 FR 73018 (December 7, 2012); and Crystalline Silicon Photovoltaic Cells, Whether or Not Assembled into Modules, from the People's Republic of China: Countervailing Duty Order, 77 FR 73017 (December 7, 2012).

Merchandise covered by the order is currently classified in the Harmonized Tariff System of the United States (HTSUS) under subheadings 8541.42.0010 and 8541.43.0010. Imports of the subject merchandise may enter under HTSUS subheadings 8501.71.0000, 8501.72.1000, 8501.72.2000, 8501.72.3000, 8501.72.9000, 8501.80.1000, 8501.80.2000, 8501.80.3000, 8501.80.9000, 8507.20.8010, 8507.20.8031, 8507.20.8041, 8507.20.8061, and 8507.20.8091. These HTSUS subheadings are provided for convenience and customs purposes; the written description of the scope of the order is dispositive.

[FR Doc. 2025-11589 Filed 6-23-25; 8:45 am]

BILLING CODE 3510-DS-P